DEPARTMENT OF HOMELAND SECURITY

Federal Emergency Management Agency

44 CFR Part 67

[Docket ID FEMA-2010-0003; Internal Agency Docket No. FEMA-B-1133]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before December 27, 2010.

ADDRESSES: The corresponding preliminary Flood Insurance Rate Map (FIRM) for the proposed BFEs for each community is available for inspection at the community's map repository. The respective addresses are listed in the table below.

You may submit comments, identified by Docket No. FEMA-B-1133, to Roy E. Wright, Deputy Director, Risk Analysis Division, Federal Insurance and Mitigation Administration, Federal Emergency Management Agency, 500 C Street, SW., Washington, DC 20472, (202) 646-3461, or (e-mail) roy.e.wright@dhs.gov.

FOR FURTHER INFORMATION CONTACT: Roy E. Wright, Deputy Director, Risk Analysis Division, Federal Insurance and Mitigation Administration, Federal Emergency Management Agency, 500 C Street, SW., Washington, DC 20472, (202) 646-3461, or (e-mail) roy.e.wright@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Tuscola County, Michigan (All Jurisdictions)
Cass River | Approximately 180 feet downstream of the CSX Railroad crossing | +635 | +634 | City of Vassar, Township of Tuscola,
| At Kirk Road, extended | +639 | +638 | Township of Vassar.
Cat Lake/South Drain | Approximately 110 feet downstream of Harmon Lake Road | None | +747 | Township of Dayton.
| At Cat Lake, approximately 280 feet upstream of Lakeview Drive | None | +749
Gibson Drain | Approximately 2,680 feet north of Don Road | None | +585 | Township of Gilford.
| Approximately 1,160 feet south of M-138 | None | +585
McPherson Drain | At Akron Road | None | +585 | Township of Gilford.
| Approximately 260 feet north of Dutcher Road | None | +585
Northwest Drain Outlet No. 1 | At the confluence with VCCM and S Drain | None | +585 | Township of Gilford.
| Approximately 500 feet downstream of North Quanicassee Road | None | +585
Reese Drain | Upstream of Reese Road, approximately 310 feet south of Dixon Road | None | +603 | Township of Denmark, Village of Reese.
| Downstream of Reese Road, approximately 2,600 feet south of M-81 | None | +625
Saginaw Bay | Entire shoreline in the Township of Akron | None | +585 | Township of Akron, Township of Wisner.
| Entire shoreline in the Township of Wisner | +584 | +585
VCCM and S Drain | Approximately 300 feet north of M-138 | None | +585 | Township of Gilford.
| At Akron Road | None | +585
Wiscoggin Drain | At Loomis Road | None | +585 | Township of Columbia.
| Approximately 380 feet upstream of Loomis Road | None | +585
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Vassar
Maps are available for inspection at City Hall, 287 East Huron Street, Vassar, MI 48768.
Township of Akron
Maps are available for inspection at 6800 North Vassar Road, Unionville, MI 48767.
Township of Columbia
Maps are available for inspection at 6822 Unionville Road, Unionville, MI 48767.
Township of Dayton
Maps are available for inspection at P.O. Box 305, Mayville, MI 48744.
Township of Denmark
Maps are available for inspection at P.O. Box 44, Reese, MI 48757.
Township of Gilford
Maps are available for inspection at 171 Garner Road, Fairgrove, MI 4873.
Township of Tuscola
Maps are available for inspection at 6697 Buell Road, Vassar, MI 48768.
Township of Vassar
Maps are available for inspection at 4505 West Saginaw Road, Vassar, MI 48768.
Township of Wisner
Maps are available for inspection at 8207 M-25, Akron, MI 48701.
Village of Reese
Maps are available for inspection at 2073 Gates Street, Reese, MI 48757.
Dakota County, Nebraska, and Incorporated Areas
Crystal Cove | Just upstream of I-129 along U.S. Route 77 | None | +1086 | City of South Sioux City.
Crystal Lake | From just upstream of 152nd Street to just downstream of U.S. Route 77 | None | +1086 | City of South Sioux City, Unincorporated Areas of Dakota County.
Crystal Lake Northwest | From just downstream of Golf Road to just upstream of 142nd Street | None | +1093 | City of South Sioux City.
Crystal Lake-Sump Area | From the intersection of Old Sawmill Road and unnamed road to approximately 780 feet south, extending approximately 1,050 feet west along Old Sawmill Road | None | +1098 | City of South Sioux City.
Missouri River | Approximately 1 mile downstream of the confluence with Omaha Creek Ditch | +1070 | +1069 | City of Dakota City, City of South Sioux City, Unincorporated Areas of Dakota County.
| Approximately 0.9 mile upstream from the confluence with Aowa Creek | +1100 | +1102
Old Silver Lake Creek | At the confluence with the Missouri River | None | +1090 | City of South Sioux City.
| Approximately 200 feet downstream of West 29th Street | None | +1092
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Dakota City
Maps are available for inspection at 1511 Broadway Street, Dakota City, NE 68731.
City of South Sioux City
Maps are available for inspection at 1615 1st Avenue, South Sioux City, NE 68776.
Unincorporated Areas of Dakota County
Maps are available for inspection at 1601 Broadway Street, Dakota City, NE 68731.
Sussex County, New Jersey (All Jurisdictions)
Delaware River | At the Warren County boundary | None | +352 | Township of Walpack.
| At the Township of Sandyston boundary | None | +376
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Township of Walpack
Maps are available for inspection at the Walpack Township Municipal Building, 9 Main Street, Walpack Center, NJ 07881.
Clark County, Nevada, and Incorporated Areas
Las Vegas Wash | At the mouth of the Las Vegas Wash (Lake Las Vegas Parkway) | +1425 | +1431 | City of Henderson, City of Las Vegas, City of North Las Vegas, Unincorporated Areas of Clark County.
| Approximately 375 feet upstream of North Las Vegas Boulevard | +1854 | +1852
Unnamed Tributary to Las Vegas Wash A Channel | Approximately 1,000 feet upstream of the intersection of Las Vegas Wash and Las Vegas Boulevard | +1857 | +1857 | City of North Las Vegas.
| Approximately 400 feet downstream of I-15 | +1890 | +1886
Unnamed Wash Along Gowan Road | Approximately 180 feet upstream of the intersection of North Rancho Drive and West Gowan Road | None | +2256 | City of Las Vegas, Unincorporated Areas of Clark County.
| At the intersection of West Gowan Road and U.S. Route 95 | None | +2311
Unnamed Wash Along Maverick Street and Duncan Drive | Approximately 300 feet upstream of the intersection of Duncan Drive and North Rancho Drive | None | +2258 | City of Las Vegas, Unincorporated Areas of Clark County.
| Approximately 150 feet downstream of the intersection of West Gowan Road and Maverick Street | None | +2280
Unnamed Wash Along North Rancho Drive | Approximately 300 feet upstream of the intersection of North Rancho Drive and North Decatur Boulevard | None | +2209 | City of Las Vegas, City of North Las Vegas.
| Approximately 250 feet upstream of the intersection of North Rancho Drive and West Craig Road | +2300 | +2298
Unnamed Wash along U.S. Route 95 | At the intersection of West Gowan Street and U.S. Route 95 | +2318 | +2317 | City of Las Vegas.
| Approximately 950 feet upstream of the intersection of U.S. Route 95 and West Craig Road | +2326 | +2325
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Henderson
Maps are available for inspection at the Public Works Department, 240 Water Street, Henderson, NV 89015.
City of Las Vegas
Maps are available for inspection at the Public Works Department, 400 Stewart Avenue, Las Vegas, NV 89101.
City of North Las Vegas
Maps are available for inspection at the Public Works Department, 2200 Civic Center Drive, North Las Vegas, NV 89030.
Unincorporated Areas of Clark County
Maps are available for inspection at the Public Works Department, 500 South Grand Central Parkway, Las Vegas, NV 89155.

(Catalog of Federal Domestic Assistance No. 97.022, “Flood Insurance.”)

Dated: September 13, 2010
Sandra K. Knight,
Deputy Federal Insurance and Mitigation Administrator, Mitigation, Department of Homeland Security, Federal Emergency Management Agency.

[FR Doc. 2010-24141 Filed 9-24-10; 8:45 am]

BILLING CODE 9110-12-P